DEPARTMENT OF THE INTERIOR

Fish and Wildlife Service

[FWS-HQ-WSR-2013-N292]; [FVWF941009000007B-XXX-FF09W10000; FVWF51100900000-XXX-FF09W10000]

Information Collection Request Sent to the Office of Management and Budget (OMB) for Approval; Application and Performance Reporting for Wildlife and Sport Fish Restoration Grants and Cooperative Agreements

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. We may not conduct or sponsor and a person is not required to respond to a collection of information unless it displays a currently valid OMB control number.

DATES: You must submit comments on or before January 23, 2014.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or hope_grey@fws.gov (email). Please include “1018-TRACS” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION: OMB Control Number: 1018-XXXX.

Title: Application and Performance Reporting for Wildlife and Sport Fish Restoration Grants and Cooperative Agreements.

Service Form Number: None.

Type of Request: Request for a new OMB control number.

Description of Respondents: Primarily States; the Commonwealths of Puerto Rico and the Northern Mariana Islands; the District of Columbia; the territories of Guam, U.S. Virgin Islands, and American Samoa; and federally-recognized tribal governments. For certain grant programs, institutions of higher education and nongovernmental organizations.

Respondent's Obligation: Required to obtain or retain a benefit.

Frequency of Collection: We require applications annually for new grants or as needed for multi-year grants. We require amendments on occasion when key elements of a project change. We require quarterly and final performance reports in the National Outreach and Communication Program and annual and final performance reports in the other programs. We may require more frequent reports under the conditions stated at 43 CFR 12.52 and 43 CFR 12.914.

Activity | Number of respondents | Number of responses | Completion time per response (in hours) | Total annual burden hours
Application (Mandatory program)—collect and enter information | 56 | 625 | 4 | 2,500
Amendment—collect and enter information | 150 | 1,500 | .5 | 750
Performance Reports—collect and enter additional information | 200 | 3,500 | 2 | 7,000
Totals | 406 | 5,625 |  | 10,250

Abstract: The Wildlife and Sport Fish Restoration Program (WSFR), U.S. Fish and Wildlife Service, administers financial assistance programs (see 77 FR 47864, August 10, 2012). You can find a description of most programs in the Catalog of Federal Domestic Assistance (CFDA) or on our Web site at http://wsfrprograms.fws.gov.

Some grants are mandatory and receive funds according to a formula set by law or policy. Other grants are discretionary, and we award them based on a competitive process. Mandatory grant recipients must give us specific, detailed project information during the application process so that we may ensure that projects are eligible for the mandatory funding, are substantial in character and design, and comply with all applicable Federal laws. All grantees must submit financial and performance reports that contain information necessary for us to track costs and accomplishments and according to schedules and rules in 43 CFR 12. The Office of Management and Budget has approved our collection of information for applications and performance reports for these programs and assigned OMB Control Numbers 1018-0109 and 1018-0147.

In past years, grantees sent paper or emailed applications and performance reports to the Service. The process to send applications to the Service has moved to the electronic system at http://www.grants.gov for competitive programs and some mandatory programs. When processing performance reports, we received the paper reports, reviewed the reports and extracted information, and then entered data into the Federal Assistance Information Management System (FAIMS). FAIMS was decommissioned on October 1, 2012, and has been replaced with a new electronic system for data collection (Wildlife Tracking and Reporting Actions for the Conservation of Species (Wildlife TRACS)). Wildlife TRACS allows us to take advantage of newer technology and give grantees direct access to enter application data that can be used to submit through http://www.grants.gov and report performance accomplishments. We have trained State, tribal, commonwealth, territory, and District of Columbia personnel to use the new system, and will provide technical and administrative support as needed. Allowing applicants and grantees to enter information directly into Wildlife TRACS will provide more accurate reporting and allow us to process grants more efficiently. We will continue to enter information in Wildlife TRACS for some grantees or programs based on needs, resource limitations, and program size and requirements.

While replacing FAIMS with Wildlife TRACS and updating our process to a more efficient and effective electronic method, we have the opportunity to make improvements that will create more consistent and robust reporting that will better help guide the future of conservation. We plan to collect additional information not covered by our current OMB approvals. We will use Wildlife TRACS to collect information approved under our existing OMB control numbers as well as the new information we are asking approval to collect. Data input will be completed by applicants and grantees. We have requested that OMB assign a new control number to cover these actions.

For mandatory grant program applications and amendments, we plan to collect:

• Geospatial entry of project location.

• Project status (active, completed, etc.).

• Project leader contact information.

• Partner information.

• Objectives, including output measures and desired future values.

• Plan information (for projects connected to plans).

For all WSFR grant program projects and reports, we plan to collect:

• The information above, as applicable to the approved grant.

• Public description.

• Action status (active, completed, etc.).

• Summary trend information, as applicable.

• Estimated costs, by action. (non-auditable).

• Effectiveness measures (initially for State Wildlife Grants).

For real property acquisition projects, we plan to collect information related to:

• Transactions, such as dates, method of transfer, who will own or hold the real property, and seller.

• Identifiers, such as State and Federal Record ID, parcel number, and property name.

• Values such as appraised value, purchase price and other cost information, and acres or acre feet.

• Encumbrances (yes or no).

• Partners.

The table above shows only the time that will be required to obtain and enter the new information when we implement Wildlife TRACS. We expect that this time will decrease as grantees become familiar with the system. We also expect to reduce the burden currently approved under OMB Control Numbers 1018-0109 and 1018-0147 for reports, amendments, and grants that remain virtually the same from year to year. When grantees directly enter reporting information into Wildlife TRACS, they will not be required to submit written reports.

Comments: On August 10, 2012, we published in the Federal Register (77 FR 47864) a notice of our intent to request that OMB approve this information collection. In that notice, we solicited comments for 60 days, ending on October 9, 2012. In addition to asking for comments on the additional information we plan to collect, we also asked for comments on the new electronic method and process for collection of all information. We received comments from nine States and one member of the general public.

State Comments

Comment: Three respondents were supportive of the electronic collection system, Wildlife TRACS, and its ability to demonstrate program accomplishments, as long as the data collection requirements are kept at the level of current approval by OMB.

Response: The current OMB approval for WSFR grant programs gives performance information, but is not standardized and specific enough to create an effective national grant accomplishment database. Through the electronic collection States and other grantees will be prompted to give information from drop-down options in data fields, will be led through the steps of data entry, and will be giving standardized information that will produce robust reports to demonstrate program accomplishments.

Comment: Two respondents commented that information beyond that necessary to demonstrate program accomplishments should not be required.

Response: We agree with this comment. We continue to work with several groups of Federal and State staff at various levels of involvement as we identify information needed and plan for future needs. We have received many suggestions and have been responsive to comments to limit data collection to that needed to responsibly assess grant accomplishments and respond to information requests from a variety of audiences. We are also using electronic models and tools within the electronic database that make it more user-friendly, more intuitive, and easier to enter data.

Comment: One respondent was not supportive of the collection of additional information and argued that we have not demonstrated evidence of inadequacy of the existing performance reporting requirements.

Response: As of October 2012, the existing reporting system (FAIMS) was decommissioned, so we must use a new method of collecting information. We are obligated by Federal guidance, such as the Government Paperwork Elimination Act and other directives, to use electronic systems. We will do this through Wildlife TRACS, the system designed to replace FAIMS. We have listened to Congress, Federal and State staff, other grantees, and stakeholders to assess needs. We have considered the needs that FAIMS was unable to fulfill, information routinely needed, and how performance reporting helps plan for conservation into the future, and have developed Wildlife TRACS to address all of these needs. Most of the information requested in Wildlife TRACS is not new information and is covered by our approved OMB control numbers, but we organize the information so it is more consistent and easier to report. We limit additional information to that needed to improve the ability to report program accomplishments and to help assure continued grant program funding.

Comment: Two respondents commented that effectiveness measures for State Wildlife Grants (SWG) should be recommended, not mandatory.

Response: The Office of Management and Budget has repeatedly called for Federal agencies to document outcomes, not just outputs, of their work and the work they fund. Unlike other WSFR grant programs, SWG is subject to the annual appropriations process, increasing the need to be able to adequately demonstrate outcomes. The Association of Fish and Wildlife Agencies, in their report “Measuring the Effectiveness of Wildlife Grants, April 2011,” demonstrates the need for States to provide more meaningful results and establishes effectiveness measures as a means to support State conservation work. If the expectation to complete the effectiveness measures allowed grantees to choose if they would respond or not, it would jeopardize the completeness of the national effectiveness measures data set. We will address effectiveness measures by guiding SWG grantees in our electronic system through a list of questions and responses designed to make the collection of information flow easier for the user. The amount of effort to complete this information is minimal compared to the benefits of the information available to decisionmakers.

Comment: One respondent commented that Statewide projects do not fit the Wildlife TRACS model well.

Response: Statewide projects will fit well into the electronic mapping used in Wildlife TRACS. The mapping tool is designed to allow users to select projects at a State level, or any level above or below that. Some geospatial advantages of the system may not be fully utilized at the State-scale level, but accomplishments can be captured easily and rolled up accurately in regional and national reports.

Comment: Six respondents commented that burden hours were underestimated.

Response: When determining the burden hours for the additional information and also accounting for applicants and grantees entering data into an electronic system directly, we compared Wildlife TRACS to a similar database, Habitat Information Tracking System (HabITS). HabITS has a similar approach to collecting data and has been in use long enough to know how long data entry takes from novice users, as well as experienced users. We used information from HabITS users as a baseline while considering other factors, such as the fact that we are only estimating burden for additional information and not for total information. Collection of information already covered by OMB Control Numbers 1018-0109 and 1018-0147 is not included in this request. We also consider that work savings will be accomplished under certain circumstances, such as projects that remain the same from year to year which will be extended annually through a simple process.

Comment: Six respondents stated that it was difficult to comment effectively on burden hours because Wildlife TRACS was not yet completed and available for use. As a result, potential impacts on State staff were unknown.

Response: We agree that without Wildlife TRACS being completed and available to use, we are not able to fully understand the burden of the system. However, the information from HabITS users gives us a good estimate of burden. The previous performance reporting system, FAIMS, is decommissioned, and we must move forward with Wildlife TRACS in order to have a system in place.

Comment: Three respondents stated that it was difficult to comment on the estimates of burden hours due to the limited State agency access to Wildlife TRACS.

Response: We agree that when we issued the 60-day notice there were only a few States that had access to Wildlife TRACS. We could only give limited access during the development process because of technology constraints. We expanded to a cloud-computing environment in October 2012, and, effective January 2013, we expanded the number of States with access to the Wildlife TRACS training environment. No State will be asked to enter information into Wildlife TRACS until their staffs receive training.

Comment: One respondent stated that the burden hour estimates did not consider the time it takes to develop project proposals.

Response: The burden hours estimated are only for the new information we will ask respondents to provide. The burden hours incurred to develop a project are already captured in the current approval under OMB Control Numbers 1018-0109 and 1018-0147.

Comment: One respondent commented that four additional hours to complete a grant application and two additional hours to complete a performance report is significant and will reduce staff productivity.

Response: We expect these estimated burden hours to decrease as grantees become familiar with the process and use of electronic systems for reporting all information. We are continuing to review the electronic system as we train Federal and State staffs and will continue to implement suggested methods to streamline and simplify functions. Using an electronic system will replace written performance reports and produce documents and reports that can be used for other tasks, such as submitting grant applications on http://www.grants.gov, further reducing overall workload.

Comment: Two respondents commented that the quality, utility, and clarity of the information to be collected will be enhanced through the use of Wildlife TRACS.

Response: We agree.

Comment: One respondent commented that Wildlife TRACS does not serve as a grant management system and that States must go to two systems, one for financial reporting and one for performance reporting.

Response: The Department of the Interior retired FAIMS and transferred the financial reporting functions to the Federal Business Management System (FBMS). We were granted permission to temporarily keep FAIMS open for performance reporting, but it is now closed permanently. We cannot bring all of the information in FBMS over to Wildlife TRACS, but there are some fields that will be populated by FBMS with daily updates. Wildlife TRACS is not designed to be a grant management system, but we expect the improvements will assist grant managers and give consistent reporting information. We will continue to make improvements as we gain knowledge and improved technology.

Comment: Two respondents stated they do not see any value added by Wildlife TRACS for grants management.

Response: We disagree. There will be a transition period for learning the system, but, over the long term, State grantees should see the benefits of streamlined grants processes, improved performance information, and the benefits of newer technology. We will continue to accept comments for ways to improve the electronic systems and be responsive to suggestions for improvement.

Comment: One respondent stated that we did not provide details on the additional information required for land acquisition projects and their usage.

Response: We agree. WSFR and State grant managers that work with lands have developed a list of anticipated information and it is included in general terms. Many States have told us that they prefer to enter the information for accuracy and the extra information asked for real property actions is easily available. We will help States to enter complete information.

Comment: One respondent commented that a trend line was not practical for survey projects that focus on general distribution of species.

Response: We agree. This information is intended for ongoing survey projects with objectives used to track measures used to estimate the annual status of species or habitats. The outputs of survey projects will be uploaded as attachments.

Comment: One respondent stated that they currently estimate costs for projects and not actions and expressed concern about how the change will be accomplished in their State.

Response: We will ask for costs only at the broadest action level. There are 13 Action categories that are designed to match typical WSFR grant actions; for example, education or technical guidance. The costs to be entered are estimated and are not auditable. They are entered to help grant managers link expected costs to their projects to help in planning, project review, and performance reporting. This information may be useful in the future to demonstrate approximate funds leveraged from other sources to accomplish conservation work.

Comment: One respondent recommended that WSFR staff work with States through at least one complete grant cycle in implementing Wildlife TRACS.

Response: We agree. WSFR has completed most of the Service and State training. Further training will continue via e-training venues. The trained Service staff will assist States as needed. No State will be expected to enter information into Wildlife TRACS until their staff has received training. WSFR staff will be engaged with State staff to assist in the transition for, at minimum, a full year.

Comment: Two respondents stated that performance reports need to be written prior to Wildlife TRACS data entry and this duplicates effort.

Response: We will not require grantees to submit written reports. Instead, States will directly enter performance reporting information into Wildlife TRACS.

Comment: Three respondents stated that detailed project proposals need to be written prior to Wildlife TRACS data entry and this duplicates effort.

Response: This has been addressed in the current structure of Wildlife TRACS. There are fields available in the system that will accommodate all of the required elements of a project statement as per 50 CFR 80.82 and as required in other grant programs. Once entered into Wildlife TRACS, a document may be downloaded and saved that serves as a project narrative and used in http://www.grants.gov or other application processes. A separate project proposal does not need to be written for the WSFR grant approval process.

Comment: Four respondents commented that using Wildlife TRACS for grant applications duplicates information submitted through http://www.grants.gov.

Response: Wildlife TRACS is designed to collect information at the project and action levels, so most grant level information submitted through http://www.grants.gov is not applicable unless the grant only consists of a single project. If the grant only consists of a single project, the only duplicate information is a few fields on the SF-424 (Application for Financial Assistance). Wildlife TRACS is designed to allow users to enter information into electronic fields and produce documents that the applicant may use when they submit applications through http://www.grants.gov, reducing user efforts.

Comment: Two respondents commented that increased reporting requirements will result in increased staff workload.

Response: We agree there will be an initial increase in staff workload as State staff learn the new system and enter new information. This is one reason why we will help enter information for the first year. After a 1-year grant cycle for continuing grants, information already entered can simply be updated with much less effort. Performance reporting though Wildlife TRACS will eliminate the need to prepare traditional written performance reports. Electronic workflow will reduce delays and allow for more efficient project approval and reporting.

Comment: Two respondents stated that no additional resources are going to be provided to States to enter information into Wildlife TRACS.

Response: State administrative costs are eligible for funding under both the Wildlife Restoration (WR) and Sport Fish Restoration (SFR) grant programs. Receipts in the trust funds for both programs increased over 2012, resulting in an increase in funding for both WR and SFR for fiscal year 2013. This makes additional funds available if a State chooses to use them to provide additional resources to implement Wildlife TRACS. Training, technical assistance, and Service staff assistance are also being given to States as resources to help in using the electronic system for performance reporting.

Comment: Two respondents commented that Wildlife TRACS geospatial data entry will require adding staff with this expertise.

Response: Entering geospatial information into Wildlife TRACS will not require any specialized Geographic Information System (GIS) expertise.

Comment: One respondent commented that we must make additional efforts to minimize State burdens when implementing Wildlife TRACS.

Response: We are reviewing the fields, mechanisms, and benefits of Wildlife TRACS to examine ways, within reason, to minimize State burdens for Wildlife TRACS data entry and use.

Comment: One respondent recommended that WSFR staff should enter all data into Wildlife TRACS, with States performing quality assurance and control.

Response: State staffs have first-hand knowledge of the projects and can enter better data. It would be more than a duplication of effort for the States to give the information to WSFR, have WSFR enter the information, then have State staff go back into the system and verify, clarify, and continue to revise incorrect information. Ultimately, State staffs need to be engaged in electronic data entry so that the quality of information is improved over that entered into FAIMS and so the performance information they are reporting is efficient and accurate.

Comment: Three respondents recommended that Wildlife TRACS should only be used for accomplishment reporting, and not for applying for grants.

Response: States will only enter data related to applying for a grant for mandatory (formula) grants. States will not be required to enter information into Wildlife TRACS for competitive grants until after a grant is awarded. If WSFR staff were responsible for entering project proposal information into Wildlife TRACS, they would be making decisions on the work, structure of the work as projects, and actions that they cannot make as these are State decisions. If WSFR were to add information that is not the way a State wants it structured, it would cause a greater burden on both parties. It would also make it hard for States to enter accomplishments, if grants were not structured by WSFR staff in a way that States would want them. WSFR has responded to concerns by designing Wildlife TRACS to create documents that can be used by States as attachments to an http://www.grants.gov application, reducing workload on the States.

Comment: One respondent commented that proposed project information entered into Wildlife TRACS by States would be subject to revision during the grant approval process. This would mean more work in going back and forth to reach a final version.

Response: If changes are needed during the grant approval process, it will create some type of workload regardless of what system is used. This is part of grants management. Changes made using an electronic system should be less of a burden and easier to manage with electronic workflow tools than changes made through other methods. Making the changes during the grant approval process reduces the workload during the accomplishment reporting period.

Comment: One respondent commented that it would be inefficient for “placeholder” geospatial data to be entered into Wildlife TRACS before work is completed and exact locations are known.

Response: Geospatial information is central to the accurate reporting of conservation information and that is why it is incorporated into the structure of Wildlife TRACS. The electronic system requires that at least a basic map be entered as the first data entry step in order to set a general location for the work and the map will be altered later, as needed, for the specific project or action location. There will be tools given on the electronic system that will help users easily adjust the mapped areas as more information is received and projects and actions are better defined. We will give guidance on the easiest ways to use the electronic mapping tools that any typical user can understand.

Comment: One respondent noted that Wildlife TRACS deployment lags FAIMS decommissioning by 3 months.

Response: It was longer than 3 months, but was unavoidable due to development delays. However, this is not relevant to this information collection request.

Comment: One respondent commented that revising project information in Wildlife TRACS will be burdensome because of the many times some projects are amended.

Response: States need to submit appropriate paperwork each time they substantially amend projects according to existing grants processes. This will be done through the electronic system, with very little change in workload.

Comment: One respondent asked exactly how Wildlife TRACS will allow more efficient grant processing.

Response: When starting the grant process, all required elements of the project statement can be entered into Wildlife TRACS instead of a two-step process of submitting a file or paper copy of a narrative that would have to be entered later. Some information entered will be available as a report that can be attached to an http://www.grants.gov application. WSFR is exploring additions to this feature. Entering accomplishment information into the electronic system will fulfill performance reporting requirements, so written reports will no longer be needed. WSFR is exploring other efficiencies.

Comment: States have not been properly trained nor had enough time to use the electronic system prior to publishing the notice asking for comments.

Response: We agree the timing was unfortunate, but it was needed to get the process started for OMB approval for information collection. The States are now more familiar and this notice serves as a second chance for the public to comment.

Comment: The additional information requested is really only for State Wildlife Grants.

Response: The additional information we wish to collect is for all programs in WSFR except where described as an exception.

Comment: Additional information beyond what is already approved and the additional listed in the 60-day notice will be collected through the electronic system, Wildlife TRACS.

Response: It may appear that extra information is being collected beyond our current information collection approvals and that listed in the 60-day notice, but that is because the method of collection is different. For example, we would expect to see project purpose, need, and objectives in a written project statement, but this information will now be captured by entering information into prescribed data fields instead of in a paper narrative. Some of the fields in the electronic system replace hard-copy work flow processes, but the information is the same. We have thoroughly reviewed the existing application and performance reporting and identified the additional information we will ask for that is outside of the approval we have through OMB Control Numbers 1018-0109 and 1018-0147.

Comment: Additional pieces of information such as: project location, contact information, real property information, workflow, and habitat information, are not needed to report to Congress.

Response: Project location and habitat information are often important for requests we receive from Congress and others. Some of the information we will collect will not be reported to Congress specifically as that information, but may be rolled-up to build the level of reporting that we need not only for Congress, but also for industry, the public, and other partners. Other information we will collect is required by policy or regulation and was collected differently prior to this, but is not new information. Some pieces of information are part of the system management process and are not expected to be used for that type of report.

Comment: The States should be given training, technical support, a system for collecting ongoing comments and suggestions, and definitions to help guide the consistency of entries.

Response: We have been conducting training during 2013. We have developed Best Management Practices guidance, e-learning, examples of projects from various types of grants, instructions for how to enter the data, and other learning and use tools. We will post information on a Wiki that will allow users to search for specific information and easily find guidance. We will give technical assistance and answer questions through a Help Desk that will be supported indefinitely.

Comment: There is concern that too much money will be spent on administration leaving less money for on-the-ground projects.

Response: We expect there will be an increase in administrative burden for the first year or so using the electronic system. The electronic system will be used regardless of whether we add more information or not, as it is part of the application and reporting requirements for States to give the Service certain information in order to voluntarily receive grant funds. Especially with the increase in funds given to States in 2013 for Sport Fish Restoration and Wildlife Restoration, and the expected trend for continued increase in at least Wildlife Restoration funding to States, we expect no significant reduction in funding that can be used for direct conservation projects. Ultimately, however, it is a State decision on how they divide their WSFR funding between projects and administration.

Comment: The Service should be responsible for all historical data entry.

Response: We will bring as much historical information over from FAIMS as possible using the current technology. We will not expect users to enter information from past years.

Comment: Instead of having to draw a point or polygon on a map, we need an option of entering GPS coordinates.

Response: Users will have the option to enter mapping information several different ways, including using GPS coordinates. We have trained users on how to make the desired changes.

Comment: The Service should divide the training up so that one class talks about how to do part of the data entry and another class something else.

Response: We enlisted our professional WSFR trainers to organize and present initial training. They will continue to build tools and add components as needed for additional training as requested or as needed.

Comment: States should not have to send in interim reports when a final report is due shortly after.

Response: The reporting frequency and process is required by 43 CFR 12 and is not part of the additional burden.

Comment: Some projects affect over 200 species. How can we efficiently enter all of that information into the electronic system?

Response: Entering species information is not required. A recommended best practice is to identify species that are directly benefitted by a specific action. Users will have the option to build customized groups of species that can then be applied to many different actions. We will continue to improve the process of working with species information to minimize the workload.

Comment: Although it is a good idea for States to enter more information for the public to see, it will mean an extra workload and cost more money.

Response: Any additions that States make to the electronic system beyond those we request are a decision of the State.

General Public Comment

Comment: The commenter stated that members of the public should have the opportunity to review and approve projects in their State, and should have a say on how the State uses the funds.

Response: Members of the public will be able to access grant information as a report in Wildlife TRACS. The commenter did not address the information collection, and we did not make any changes to our requirements as a result of this comment.

We have consulted with States, organizations, other agencies, and other Federal staff when preparing the burden information, when determining the information we need for reporting actions, and when developing and implementing the new electronic system. We have formed several teams over the last 2 years during the development of the electronic system and have organized several more teams to assist in managing the system and responding to States and others into the future.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: December 19, 2013.
Tina A. Campbell,
Chief, Division of Policy and Directives Management, U.S. Fish and Wildlife Service.

[FR Doc. 2013-30623 Filed 12-23-13; 8:45 am]

BILLING CODE 4310-55-P